ENVIRONMENTAL PROTECTION AGENCY

[EPA-HQ-OPPT-2003-0004; FRL-9986-77]

Access to Confidential Business Information by Chemical Abstracts Service

AGENCY: Environmental Protection Agency (EPA).

ACTION: Notice.

SUMMARY: EPA has authorized its contractor, Chemical Abstracts Service (CAS) of Columbus, OH, to access information which has been submitted to EPA under sections 5 and 8 of the Toxic Substances Control Act (TSCA). Some of the information may be claimed or determined to be Confidential Business Information (CBI).

DATES: Access to the confidential data occurred on or about 1 November 2018.

FOR FURTHER INFORMATION CONTACT:

For technical information contact: Recie Reese, Environmental Assistance Division (7408M), Office of Pollution Prevention and Toxics, Environmental Protection Agency, 1200 Pennsylvania Ave. NW, Washington, DC 20460-0001; telephone number: (202) 564-8276; email address: reese.recie@epa.gov.

For general information contact: The TSCA-Hotline, ABVI-Goodwill, 422 South Clinton Ave., Rochester, NY 14620; telephone number: (202) 554-1404; email address: TSCA-Hotline@epa.gov.

SUPPLEMENTARY INFORMATION:

I. General Information

A. Does this action apply to me?

This action is directed to the public in general. This action may, however, be of interest to all who manufacture, process, or distribute industrial chemicals. Since other entities may also be interested, the Agency has not attempted to describe all the specific entities that may be affected by this action.

B. How can I get copies of this document and other related information?

The docket for this action, identified by docket identification (ID) number EPA-HQ-OPPT-2003-0004, is available at http://www.regulations.gov or at the Office of Pollution Prevention and Toxics Docket (OPPT Docket), Environmental Protection Agency Docket Center (EPA/DC), West William Jefferson Clinton Bldg., Rm. 3334, 1301 Constitution Ave. NW, Washington, DC. The Public Reading Room is open from 8:30 a.m. to 4:30 p.m., Monday through Friday, excluding legal holidays. The telephone number for the Public Reading Room is (202) 566-1744, and the telephone number for the OPPT Docket is (202) 566-0280. Please review the visitor instructions and additional information about the docket available at http://www.epa.gov/dockets.

II. What action is the Agency taking?

Under EPA contract number 68HERH19C0002, contractor CAS of 2540 Olentangy River Rd., P.O. Box 3012, Columbus, OH, is assisting the Office of Pollution Prevention and Toxics (OPPT) by providing technical assistance in developing and operating the TSCA Chemical Substance Inventory. They will also assist in determining whether the substances described in the submissions received are already found on the TSCA Inventory; and review and/or provide the chemical names for the substances being reviewed. This is a new contract that continues work initiated under Contract Number EP-W-13-008. This is a renewal of a long existing contract with CAS.

In accordance with 40 CFR 2.306(j), EPA has determined that under EPA contract number 68HERH19C0002, CAS required access to CBI submitted to EPA under sections 5 and 8 of TSCA to perform successfully the duties specified under the contract. CAS personnel were given access to information submitted to EPA under sections 5 and 8 of TSCA. Some of the information may be claimed or determined to be CBI.

EPA is issuing this notice to inform all submitters of information under sections 5 and 8 of TSCA that EPA has provided CAS access to these CBI materials on a need-to-know basis only. All access to TSCA CBI under this contract is taking place at EPA Headquarters and CAS' site located at 2540 Olentangy River Rd., Columbus, OH, in accordance with EPA's TSCA CBI Protection Manual.

Access to TSCA data, including CBI, will continue until October 31, 2023. If the contract is extended, this access will also continue for the duration of the extended contract without further notice.

CAS personnel have signed nondisclosure agreements and were briefed on appropriate security procedures before they were permitted access to TSCA CBI.

Authority: 15 U.S.C. 2601 et seq.

Dated: November 30, 2018.
Pamela S. Myrick,
Director, Information Management Division, Office of Pollution Prevention and Toxics.

[FR Doc. 2018-28302 Filed 12-27-18; 8:45 am]

BILLING CODE 6560-50-P